DEPARTMENT OF THE INTERIOR

National Park Service

[NPS-WASO-NAGPRA-NPS0037264; PPWOCRADN0-PCU00RP14.R50000]

Notice of Intent To Repatriate Cultural Items: Pioneer Museum, Blue Licks Battlefield State Resort, Kentucky Department of Parks, Carlisle, KY

AGENCY: National Park Service, Interior.

ACTION: Notice.

SUMMARY: In accordance with the Native American Graves Protection and Repatriation Act (NAGPRA), the Pioneer Museum, Blue Licks Battlefield State Resort Park, Kentucky Department of Parks intends to repatriate certain cultural items that meet the definition of unassociated funerary objects and that have a cultural affiliation with the Indian Tribes or Native Hawaiian organizations in this notice. The cultural items were removed from Mason, KY.

DATES: Repatriation of the cultural items in this notice may occur on or after February 20, 2024.

ADDRESSES: Jennifer Spence, Parks Museum Curator, Kentucky Department of Parks, 500 Mero Street, 5th Floor, Frankfort, KY 40601, telephone (502) 892-3339, email Jennifer.spence@ky.gov.

SUPPLEMENTARY INFORMATION: This notice is published as part of the National Park Service's administrative responsibilities under NAGPRA. The determinations in this notice are the sole responsibility of the Kentucky Department of Parks. The National Park Service is not responsible for the determinations in this notice. Additional information on the determinations in this notice, including the results of consultation, can be found in the summary or related records held by the Kentucky Department of Parks.

Description

The 274 cultural items were removed from Mason County, KY. These cultural items were collected in the 1920s thru the 1940s. The Pioneer Museum's founder, William Curtis, was a collector of these objects and took part in excavations at Fox Field (Fox Farm Fort Ancient culture archeological site), Mason County, Kentucky, and possibly at other sites in Kentucky. Curtis worked with other collectors in the field to acquire objects for the museum from surrounding counties in the state, but most items with a known provenience trace back to Fox Field. Most of these items are displayed and stored in the museum.

The 274 unassociated funerary objects are two adzes, six awls, eight game balls, five deer knuckle beads, two copper bracelets, two celts, one chisel, 12 discoidals, four drills, eight effigies, one effigy bead, five pottery figurines, one fishhook, 11 shell gorgets, one limestone gorget, one slate gorget, one grooved bone hairpin, one knapping hammer, three hoes, one grooved bone body ornament, nine flint knives, three necklaces of shell and bone beads, one necklace of animal bones, two bone sewing needles, 15 stone pendants, two shell pendants, four conch shell wheel pendants, four cannel coal pendants, three bear tooth pendants, two animal bone pendants, two ceramic disk pendants, two stone pestles, 10 pipes, 27 projectile points, one hide scraper, 61 pottery sherds, two bone whistles, one whetstone, one atlatl weight, 19 pottery vessels, four uniface knives, two mussel shell spoons, one strand of nine bone, clay, and shell beads, one strand of bear and canine teeth and a hawks claw, seven bear teeth fragments, one strand of 10 canine teeth, one strand of 13 marine shells, one strand of 12 beads, one string of seven beads, one string of 12 shell beads, one string of 18 shell beads, one strand of nine shell beads, one strand of seven conical shaped shell beads, one strand of 12 animal teeth, one strand of small shell beads, one strand of nine stone beads, and one animal tooth bead.

Cultural Affiliation

The cultural items in this notice are connected to one or more identifiable earlier groups, tribes, peoples, or cultures. There is a relationship of shared group identity between the identifiable earlier groups, tribes, peoples, or cultures and one or more Indian Tribes or Native Hawaiian organizations. The following types of information were used to reasonably trace the relationship: archeological information, geographical information, historical information, other relevant information, or expert opinion.

Determinations

Pursuant to NAGPRA and its implementing regulations, and after consultation with the appropriate Indian Tribes and Native Hawaiian organizations, the Kentucky Department of Parks has determined that:

• The 274 cultural items described above are reasonably believed to have been placed with or near individual human remains at the time of death or later as part of the death rite or ceremony and are believed, by a preponderance of the evidence, to have been removed from a specific burial site of a Native American individual.

• There is a relationship of shared group identity that can be reasonably traced between the cultural items and the Absentee-Shawnee Tribe of Indians of Oklahoma; Eastern Shawnee Tribe of Oklahoma; and the Shawnee Tribe.

Requests for Repatriation

Additional, written requests for repatriation of the cultural items in this notice must be sent to the Responsible Official identified in ADDRESSES. Requests for repatriation may be submitted by any lineal descendant, Indian Tribe, or Native Hawaiian organization not identified in this notice who shows, by a preponderance of the evidence, that the requestor is a lineal descendant or a culturally affiliated Indian Tribe or Native Hawaiian organization.

Repatriation of the cultural items in this notice to a requestor may occur on or after February 20, 2024. If competing requests for repatriation are received, the Kentucky Department of Parks must determine the most appropriate requestor prior to repatriation. Requests for joint repatriation of the cultural items are considered a single request and not competing requests. The Kentucky Department of Parks is responsible for sending a copy of this notice to the Indian Tribes and Native Hawaiian organizations identified in this notice.

Authority: Native American Graves Protection and Repatriation Act, 25 U.S.C. 3003, and the implementing regulations, 43 CFR 10.8, 10.10, and 10.14.

Dated: January 11, 2024.
Melanie O'Brien,
Manager, National NAGPRA Program.

[FR Doc. 2024-00832 Filed 1-17-24; 8:45 am]

BILLING CODE 4312-52-P